DEPARTMENT OF ENERGY

Federal Energy Regulatory Commission

[Project No. 13015-001]

Town of Edgartown; Notice of Intent To File License Application, Filing of Draft Application, Request for Waivers of Integrated Licensing Process Regulations Necessary for Expedited Processing of a Hydrokinetic Pilot Project License Application, and Soliciting Comments

a. Type of Filing: Notice of Intent to File a License Application for an Original License for a Hydrokinetic Pilot Project.

b. Project No.: 13015-001.

c. Date Filed: February 1, 2011.

d. Submitted By: Town of Edgartown (Edgartown).

e. Name of Project: Muskeget Channel Tidal Energy Project.¹

¹ The project was named the Nantucket Tidal Energy Plant Water Power Project in the preliminary permit for Project No. 13015 issued in March 31, 2008.

f. Location: In Muskeget Channel, between the islands of Martha's Vineyard and Nantucket, Dukes County, Massachusetts.

g. Filed Pursuant to: 18 CFR 5.3 of the Commission's regulations.

h. Applicant Contact: Ms. Pamela Dolby, Town Administrator, Town of Edgartown, 70 Main Street, Edgartown, MA 02539; (508) 627-6180.

i. FERC Contact: Michael Watts (202) 502-6123.

j. Edgartown has filed with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-Federal representative for section 106 consultation under the National Historic Preservation Act (collectively the pre-filing materials).

k. With this notice, we are soliciting comments on the pre-filing materials listed in paragraph j above, including the draft license application and monitoring plans. All comments should be sent to the address above in paragraph h. In addition, all comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Any individual or entity interested in submitting comments on the pre-filing materials must do so by March 17, 2011.

l. With this notice, we are approving Edgartown's request to be designated as the non-Federal representative for section 7 of the ESA and its request to initiate consultation under section 106 of the National Historic Preservation Act; and recommending that it begin informal consultation with: (a) The U.S. Fish and Wildlife Service and the National Marine Fisheries Service as required by section 7 of ESA; and (b) the Massachusetts State Historic Preservation Officer, as required by section 106, National Historical Preservation Act, and the implementing regulations of the Advisory Council on Historic Preservation at 36 CFR 800.2.

m. This notice does not constitute the Commission's approval of Edgartown's request to use the Pilot Project Licensing Procedures. Upon its review of the project's overall characteristics relative to the pilot project criteria, the draft license application contents, and any comments filed, the Commission will determine whether there is adequate information to conclude the pre-filing process.

n. The proposed Muskeget Channel Tidal Energy Project would consist of: (1) 13 commercially operated OCGenTM horizontal hydrokinetic cross flow turbine generation units with a total installed capacity of 5 megawatts, and one experimental turbine unit that would be used to test various tidal energy technologies; (2) a mooring and anchoring system attached to each unit consisting of four mooring lines, an anchor, and a clump weight; (3) two alternative submarine cable routes consisting of a either a 3.5-mile-long, or a 5-mile-long submarine cable with two 13.8-kilovolt (kv) lines and a 4.0-kv transmission line connecting the turbine generation units to an onshore substation located either in the Chappaquiddick or Katama sections of Edgartown; (4) two alternative onshore transmission line routes consisting of a 34.5 kv transmission line connecting either the Chappaquiddick or Katama onshore station to an existing distribution line in Edargatown; and (5) appurtenant facilities. The project would have an average annual generation of 10.95 gigawatt-hours.

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659.

p. Pre-filing process schedule. The pre-filing process will be conducted pursuant to the following tentative schedule. Revisions to the schedule below may be made based on staff's review of the draft application and any comments received.

Milestone | Date
Comments on pre-filing materials due | March 17, 2011.
Issuance of meeting notice (if needed) | April 1, 2011.
Public meeting/technical conference (if needed) | May 1, 2011.
Issuance of notice concluding pre-filing process and ILP waiver request determination | April 16, 2011 (if no meeting is needed). May 16, 2011 (if meeting is needed).

q. Register online at http://www.ferc.gov/docs-filing/esubscription.asp to be notified via e-mail of new filing and issuances related to this or other pending projects. For assistance, contact FERC Online Support.

Dated: February 8, 2011.
Kimberly D. Bose,
Secretary.

[FR Doc. 2011-3305 Filed 2-14-11; 8:45 am]

BILLING CODE 6717-01-P